NUCLEAR REGULATORY COMMISSION

Advisory Committee on Nuclear Waste; Notice of Meeting

The Advisory Committee on Nuclear Waste (ACNW) will hold its 142nd meeting on May 28-30, 2003, 11545 Rockville Pike, Rockville, Maryland. The entire meeting will be open to public attendance. The schedule for this meeting is as follows:

Wednesday, May 28, 2003

1 p.m.-1:10 p.m.: Opening Statement (Open)—The Chairman will open the meeting with brief opening remarks, outline the topics to be discussed, and indicate items of interest.

1:10 p.m.-3 p.m.: Control of Solid Materials (Open)—The Committee will hear presentations by and hold discussions with representatives of the NRC staff on the potential regulation on control of solid materials containing no or very small amounts of radioactivity.

3:15 p.m.-4:45 p.m.: License Termination Rule (LT) (Open)—The Committee will hear presentations by and hold discussions with representatives of the NRC staff on the evaluation of issues related to making the restricted release/alternate criteria provisions of the LTR more available for licensee use.

5 p.m.-6 p.m.: Proposed ACNW Reports (Open)—The Committee will discuss proposed ACNW reports on matters considered during this meeting, as well as proposed ACNW reports on the March 2003 Working Group Meeting on NRC and DOE Performance Assessments. In addition, the Committee will consider proposed reports on presentations made during the April meeting by the State of Nevada on Transportation of Spent Fuel and High Level Waste (HLW) and by representatives of the National Academy on its report “One Step at a Time: The Staged Development of Geologic Repositories for HLW.”

Thursday, May 29, 2003

8:30 a.m.-8:35 a.m.: Opening Statement (Open)—The Chairman will make opening remarks regarding the conduct of today's sessions.

8:35 a.m.-9:45 a.m.: Yucca Mountain Review Plan (YMRP) Revision 2 (Open)—The Committee will hear presentations by and hold discussions with representatives of the NRC staff on the changes incorporated in Draft Final Yucca Mountain Review Plan, Revision 2.

10 a.m.-11 a.m.: 2003-04 ACNW Research Report (Open)—An outline and potential plan for the next ACNW Research Report will be discussed.

12:30 p.m.-5 p.m.: Proposed ACNW Reports (Open)—The Committee will continue to discuss proposed ACNW reports.

Friday, May 30, 2003

8:30 a.m.-8:35 a.m.: Opening Statement (Open)—The Chairman will make opening remarks regarding the conduct of today's sessions.

8:35 a.m.-11:45 a.m.: Proposed ACNW Reports (Open)—The Committee will continue its discussion on proposed ACNW reports.

11:45 a.m.-12 Noon: Miscellaneous (Open)—The Committee will discuss matters related to the conduct of Committee activities and matters and specific issues that were not completed during previous meetings, as time and availability of information permit.

Procedures for the conduct of and participation in ACNW meetings were published in the Federal Register on October 11, 2002 (67 FR 63459). In accordance with these procedures, oral or written statements may be presented by members of the public. Electronic recordings will be permitted only during those portions of the meeting that are open to the public. Persons desiring to make oral statements should notify Mr. Howard J. Larson, ACNW (Telephone 301/415-6805), between 7:30 a.m. and 4 p.m. ET, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Mr. Howard J. Larson as to their particular needs.

Further information regarding topics to be discussed, whether the meeting has been canceled or rescheduled, the Chairman's ruling on requests for the opportunity to present oral statements and the time allotted therefore can be obtained by contacting Mr. Howard J. Larson.

ACNW meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACNW meetings. Those wishing to use this service for observing ACNW meetings should contact Mr. Theron Brown, ACNW Audiovisual Technician (301/415-8066), between 7:30 a.m. and 3:45 p.m. ET, at least 10 days before the meeting to ensure the availability of this service. Individuals or organizations requesting this service will be responsible for telephone line charges and for providing the equipment and facilities that they use to establish the videoteleconferencing link. The availability of videoteleconferencing services is not guaranteed.

Dated: May 6, 2003.
Andrew L. Bates,
Advisory Committee Management Officer.

[FR Doc. 03-11700 Filed 5-9-03; 8:45 am]

BILLING CODE 7590-01-P